NUCLEAR REGULATORY COMMISSION

[Docket No. 52-008]

Dominion Nuclear North Anna, LLC; Notice of Availability of the Supplement to the Draft Environmental Impact Statement for an Early Site Permit (ESP) at the North Anna ESP Site and Associated Public Meeting

Notice is hereby given that the U.S. Nuclear Regulatory Commission (NRC, the Commission) has published Supplement 1 to NUREG-1811, “Draft Environmental Impact Statement for an Early Site Permit (ESP) at the North Anna ESP Site” (SDEIS), and is making it available for comment. The site is located near the Town of Mineral in Louisa County, Virginia, on the southern shore of Lake Anna.

Dominion Nuclear North Anna, LLC (Dominion, the applicant) is seeking an ESP for the North Anna site in accordance with Subpart A of 10 CFR Part 52. The ESP process allows resolution of issues relating to siting separate from the filing of an application for a construction permit (CP) or a combined construction permit and operating license referred to as a combined license (COL) for a nuclear power facility. At any time during the term of an ESP (up to 20 years), the permit may be referenced in an application for a CP or COL.

The application for the ESP was submitted by letter dated September 25, 2003. In the draft environmental impact statement (DEIS), published in December 2004 (69 FR 71854), the staff evaluated the proposed action (issuance of an ESP at the North Anna ESP site) including the no action alternative and alternative sites to determine if any alternative site identified was obviously superior to the proposed site. On April 13, 2006, Dominion submitted Revision 6 to its application. The revision described changes to the cooling water system for postulated Unit 3 at the North Anna ESP site and an increase in power level for both postulated Units 3 and 4. In view of these changes, the NRC staff, pursuant to 10 CFR 51.72, determined to prepare a supplement to its DEIS. A notice of intent to prepare a supplement to the draft environmental impact statement was published in the Federal Register on May 15, 2006 (71 FR 28392). In addition, on June 21, 2006, Dominion submitted Revision 7 of the application. Revision 7 of the application included changes in response to the staff's request for additional information on Revision 6.

The scope of the SDEIS is limited to the environmental impacts associated with the changes in ER Revision 6, i.e., the new cooling system for Unit 3 and the increase in the maximum power level described in the PPE. The evaluation in the SDEIS addresses the wet and dry cooling system for Unit 3 and modifies the analysis of impacts related to the power level increase for both Units 3 and 4. There is no change to the cooling system for Unit 4. These revised evaluations will be incorporated into the final EIS. The final EIS will also set forth the public comments on the analysis presented in this SDEIS received within the comment period described below, together with comments concerning the draft EIS received within the draft EIS comment period, and the staff's responses to comments. The staff will address comments on portions of the DEIS not affected by the changes in Revisions 6 and 7 of the application in the FEIS only to the extent such comments were received during the comment period on the DEIS or there is otherwise time for the staff to address them.

The purpose of this notice is to inform the public that the SDEIS is available for public inspection and comment. The DSEIS is available in the NRC Public Document Room (PDR) located at One White Flint North, 11555 Rockville Pike (first floor), Rockville, Maryland, 20852, or from the Publicly Available Records (PARS) component of NRC's Agencywide Documents Access and Management System (ADAMS Accession No. ML061800217), and will also be placed directly on the NRC Web site at http://www.nrc.gov. ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Louisa County Library, located at 881 Davis Highway, Mineral, Virginia, has agreed to make the DSEIS available for public inspection.

The NRC staff will hold a public meeting to present an overview of the SDEIS and to accept public comments on the DSEIS. The public meeting will be held in the Forum at the Louisa County Middle School, 1009 Davis Highway, Mineral, Virginia on Tuesday, August 15, 2006. The meeting will convene at 7:00 p.m. and will continue until 10:00 p.m., as necessary. The meeting will be transcribed and will include: (1) A presentation of the contents of the SDEIS, and (2) the opportunity for interested government agencies, organizations, and individuals to provide comments on the draft report. Additionally, the NRC staff will host informal discussions 1 hour before the start of the meeting at the Louisa County Middle School. No formal comments on the SDEIS will be accepted during the informal discussions. To be considered, comments must be provided either at the transcribed public meeting or in writing. Persons may register to attend or present oral comments at the meeting by contacting Mr. Jack Cushing, by telephone at 1-800-368-5642, extension 1424, or by Internet to the NRC at North_Anna_comments@nrc.gov no later than August 10, 2006. Members of the public may also register to speak at the meeting within 15 minutes of the start of the meeting. Individual oral comments may be limited by the time available, depending on the number of persons who register. Members of the public who have not registered may also have an opportunity to speak, if time permits. Mr. Cushing must be contacted no later than August 7, 2006, if special equipment or accommodations are needed to attend or present information at the public meeting, so that the NRC staff can determine whether the request can be accommodated.

Any interested party may submit comments on this report for consideration by the NRC staff. Comments may be accompanied by additional relevant information or supporting data. This draft report is being issued by the NRC for a 45-day comment period. The comment period begins on the date that the U.S. Environmental Protection Agency publishes a Notice of Filing in the Federal Register which is expected to be July 14, 2006; such Notices are published every Friday. The Notice will identify the comment period end date. Members of the public may send written comments on the SDEIS for the North Anna ESP to the Chief, Rules and Directives Branch, Division of Administrative Services, Office of Administration, Mailstop T-6D59, U.S. Nuclear Regulatory Commission, Washington, DC 20555-0001, and should cite the publication date and page number of this Federal Register Notice. Comments may also be delivered to Room T-6D59, Two White Flint North, 11545 Rockville Pike, Rockville, Maryland, from 7:30 a.m. to 4:15 p.m. during Federal workdays. Electronic comments may be sent by the Internet to the NRC at North_Anna_comments@nrc.gov. To assist the NRC staff in identifying and considering issue and concerns, comments on the supplement to the draft EIS should be as specific as possible. It is also helpful if comments refer to specific pages or chapters of the draft supplement. Comments will be available electronically and accessible through the NRC's PERR link at http://www.nrc.gov/reading-rm/adams.html.

For Further Information Contact: For further information regarding the environmental impact statement, contact Mr. Jack Cushing, Senior Environmental Project Manager, at telephone number 301-415-1424, or by mail at U.S. Nuclear Regulatory Commission, ATTN: Jack Cushing, Mail Stop 0-11F1, One White Flint North, 11555 Rockville Pike, Rockville, Maryland 20852-2738.

Dated at Rockville, Maryland, this 6th day of July 2006.
For the Nuclear Regulatory Commission.
David B. Matthews,
Director, Division of New Reactor Licensing, Office of Nuclear Reactor Regulation.

[FR Doc. E6-10909 Filed 7-11-06; 8:45 am]

BILLING CODE 7590-01-P